DEPARTMENT OF THE INTERIOR

Bureau of Land Management

[UT-910-05-1040-PH-24-1A]

Notice of Utah Resource Advisory Council Meeting

AGENCY: Bureau of Land Management, Department of the Interior.

ACTION: Notice of Utah Resource Advisory Council (RAC) meeting.

SUMMARY: In accordance with the Federal Land Policy and Management Act (FLPMA) and the Federal Advisory Committee Act of 1972 (FACA), the U.S. Department of the Interior, Bureau of Land Management's (BLM) Utah Resource Advisory Council (RAC) will meet as indicated below.

DATES: The Utah Resource Advisory Council (RAC) will meet September 8 (8-5) and September 9 (8-12:15), 2005, in Blanding, Utah. On September 8, the RAC will meet at the Edge of the Cedars State Park Museum (located at 660 West 400 North, Blanding) for a field trip to the Four Corners region of Utah. On September 9, the RAC will meet at the Blanding Arts & Events Center Auditorium (located at 715 West 200 South, Blanding). A half-hour public comment period is scheduled to begin at 11:30 a.m. on September 9. Written comments may be sent to the Bureau of Land Management address listed below.

FOR FURTHER INFORMATION CONTACT: Sherry Foot, Special Programs Coordinator, Utah State Office, Bureau of Land Management, P.O. Box 45155, Salt Lake City, Utah 84145-0155; phone (801) 539-4195.

SUPPLEMENTARY INFORMATION: On September 8, the RAC will be introduced to the cultural resources and their relationship to other resources. The field trip will focus on the Comb Ridge area and include short hikes and a drive through Butler and Comb Washes. On September 9, the RAC will be given updates on the Resource Management Plans, Fires across the state, and Day-Ride Maps. An overview of issues occurring on BLM Utah lands, an update from the Factory Butte RAC Subgroup and a presentation on the role of the Public Lands Council will also be given.

All meetings are open to the public; however, transportation, lodging, and meals are the responsibility of the participating public.

Dated: July 27, 2005.
Gene Terland,
Associate State Director.

[FR Doc. 05-15466 Filed 8-4-05; 8:45 am]

BILLING CODE 4310-DK-P